DEPARTMENT OF VETERANS AFFAIRS

Advisory Committee on Former Prisoners of War; Notice of Meeting

The Department of Veterans Affairs gives notice under Public Law 92-463 (Federal Advisory Committee Act) that the Advisory Committee on Former Prisoners of War (FPOW) has scheduled a meeting for April 16-18, 2007, at the Department of Veterans Affairs Central Office, 810 Vermont Avenue, NW., Washington, DC. The meeting will be held in room 630 on April 16 and room 830 on April 17-18, from 9 a.m. to 4 p.m. each day. The meeting is open to the public.

The purpose of the Committee is to advise the Secretary of Veterans Affairs on the administration of benefits under title 38, United States Code, for veterans who are former prisoners of war, and to make recommendations on the needs of such veterans for compensation, health care, and rehabilitation.

The agenda for April 16 will begin with an introduction of Committee members, remarks from dignitaries, a review of Committee reports, an update of activities since the last meeting, and a period for FPOW veterans and/or the public to address the Committee. On April 17, the Committee will hear reports from the Veterans Health Administration and Veterans Benefits Administration. The Committee will also hear an update on Robert E. Mitchell Center for Prisoners of War studies. On April 18, the Committee's medical and administrative work groups will meet to discuss their activities and report back to the Committee. Additionally, the Committee will review and analyze comments presented during the meeting to compile a report to be sent to the Secretary.

Members of the public may direct questions or submit written statements for review by the Committee in advance of the meeting to Mr. Bradley G. Mayes, Director, Compensation and Pension Service (21), Department of Veterans Affairs, 810 Vermont Avenue, NW., Washington, DC 20420. Submitted materials must be received by April 1, 2007.

Dated: February 14, 2007.
By Direction of the Secretary.
E. Philip Riggin,
Committee Management Officer.

[FR Doc. 07-784 Filed 2-21-07; 8:45 am]

BILLING CODE 8320-01-M